ENVIRONMENTAL PROTECTION AGENCY

[FRL-9542-04-OAR]

Final Allocations of Cross-State Air Pollution Rule Allowances From New Unit Set-Asides for 2022 Control Periods

AGENCY: Environmental Protection Agency (EPA).

ACTION: Notice of data availability.

SUMMARY: The Environmental Protection Agency (EPA) is providing notice of the availability of data on emission allowance allocations to certain units under the Cross-State Air Pollution Rule (CSAPR) trading programs. EPA has completed final calculations for the allocations of allowances from the CSAPR new unit set-asides (NUSAs) for the 2022 control periods and has posted spreadsheets containing the calculations on EPA's website. EPA has also completed calculations for allocations of the remaining 2022 NUSA allowances to existing units and has posted spreadsheets containing those calculations on EPA's website as well.

DATES: May 1, 2023.

FOR FURTHER INFORMATION CONTACT: Questions concerning this action should be addressed to Jason Kuhns at (202) 564-3236 or kuhns.jason@epa.gov or Andrew Reighart at (202) 564-0418 or reighart.andrew@epa.gov.

SUPPLEMENTARY INFORMATION: Under each CSAPR trading program where EPA is responsible for determining emission allowance allocations, a portion of each state's emissions budget for the program for each control period is reserved in a NUSA (and in an additional Indian country NUSA in the case of states with Indian country within their borders) for allocation to certain units that would not otherwise receive allowance allocations. The procedures for identifying the eligible units for each control period and for allocating allowances from the NUSAs and Indian country NUSAs to these units are set forth in the CSAPR trading program regulations at 40 CFR 97.411(b) and 97.412 (NOX Annual), 97.511(b) and 97.512 (NOX Ozone Season Group 1), 97.611(b) and 97.612 (SO2 Group 1), 97.711(b) and 97.712 (SO2 Group 2), 97.811(b) and 97.812 (NOX Ozone Season Group 2), and 97.1011(b) and 97.1012 (NOX Ozone Season Group 3). Each NUSA allowance allocation process involves allocations to eligible units, termed “new” units, followed by the allocation to “existing” units of any allowances not allocated to new units.

In a notice of data availability (NODA) published in the Federal Register on February 27, 2022 (88 FR 12356), EPA provided notice of the preliminary calculations of NUSA allowance allocations for the 2022 control periods and described the process for submitting any objections. EPA received no objections in response to the February 27, 2022 NODA. This NODA concerns the final NUSA allowance allocations, which are unchanged from the preliminary calculations.

The detailed unit-by-unit data and final allowance allocation calculations are set forth in Excel spreadsheets titled “CSAPR_NUSA_2022_NOx_Annual_Final_Data_New_Units,” “CSAPR_NUSA_2022_NOx_OS_Final_Data_New_Units,” “CSAPR_NUSA_2022_SO2_Final_Data_New_Units,” “CSAPR_NUSA_2022_NOx_Annual_Final_Data_Existing_Units,” “CSAPR_NUSA_2022_NOx_OS_Final_Data_Existing_Units,” and “CSAPR_NUSA_2022_SO2_Final_Data_Existing_Units”, available on EPA's website at https://www.epa.gov/csapr/csapr-compliance-year-2022-nusa-nodas.

EPA notes that an allocation or lack of allocation of allowances to a given unit does not constitute a determination that CSAPR does or does not apply to the unit. EPA also notes that, under 40 CFR 97.411(c), 97.511(c), 97.611(c), 97.711(c), 97.811(c), and 97.1011(c), allocations are subject to potential correction if a unit to which allowances have been allocated for a given control period is not actually an affected unit as of the start of that control period.

(Authority: 40 CFR 97.411(b), 97.511(b), 97.611(b), 97.711(b), 97.811(b), and 97.1011(b).)

Rona Birnbaum,
Director, Clean Air Markets Division, Office of Atmospheric Protection, Office of Air and Radiation.

[FR Doc. 2023-08795 Filed 4-28-23; 8:45 am]

BILLING CODE 6560-50-P